EXPORT-IMPORT BANK OF THE UNITED STATES

Renewal of Advisory Committee Charter

ACTION: Notice of Renewal of the Advisory Committee Charter of the Export Import Bank.

SUMMARY: In compliance with mandate of Section 3(d)(4) of the Export Import Bank Act of 1945, as amended, the Agency announces the renewal of the Export Import Bank Advisory Committee. The committee will advise the Bank's leadership and shall prepare and submit with the Bank's annual competitiveness report to the U.S. Congress its comments on the extent to which the Bank is meeting its mandate to provide competitive financing to expand United States exports, and any suggestions for improvements in this regard.

SUPPLEMENTARY INFORMATION:

I. Background and Authority

The Advisory Committee was established as a non-discretionary committee pursuant to Section 3(d)(4). The current Charter of the Advisory Committee is scheduled to expire on November 3, 2011.

II. Structure

The Committee shall consist of 17 members appointed by the Bank's Board of Directors on the recommendation of the President and Chairman of the Bank. Such members shall be broadly representative of the following constituencies: environment, production, commerce, finance, agriculture, labor, services, and State government, with not less than three members being representative of the small business community, not less than two members being representative of the labor community, and not less than two members being representative of the environmental nongovernmental organization community.

FOR FURTHER INFORMATION CONTACT: For further information, contact: Office of the Secretary, 811 Vermont Avenue NW., Washington, DC 20571 (Number (202) 565-3336).

Lisa V. Terry,
Assistant General Counsel (Acting).

[FR Doc. 2011-29094 Filed 11-21-11; 8:45 am]

BILLING CODE 6690-01-M